DEPARTMENT OF COMMERCE

United States Patent and Trademark Office

[Docket No. PTO-C-2010-0058]

United States Patent and Trademark Office Draft Strategic Plan for FY 2010-2015

AGENCY: United States Patent and Trademark Office, Commerce.

ACTION: Notice: Request for comments.

SUMMARY: This notice announces that the United States Patent and Trademark Office (USPTO) draft strategic plan for fiscal years (FY) 2010-2015 is available for public review and comment. The Government Performance and Results Act of 1993 (GPRA) requires Federal agencies to establish a strategic plan covering not less than five years, and to solicit the views and suggestions of those entities potentially affected by or interested in the plan. This plan which identifies the strategic goals and priorities of the administration and leadership of the agency is a revision of the FY 2007-2012 strategic plan.

The USPTO's current plan, the FY 2007-2012 strategic plan, may be viewed on the USPTO Web site at http://www.uspto.gov as can the agency's draft plan for FY 2010-2015.

DATES: Written comments are requested by close of business on July 26, 2010.

ADDRESSES: Written comments should be sent by electronic mail message over the Internet addressed to strategicplan@uspto.gov. Comments may also be submitted by mail addressed to: The USPTO Strategic Plan Coordinator, P.O. Box 1450, Alexandria, VA 22313-1450, marked to the attention of Candice Goodman. Although comments may be submitted by mail, submission via e-mail to the above address is preferable.

The written comments will be available for public inspection at the Office of Corporate Planning, Madison East, Room 7A15, Alexandria, VA 22314, and will be available via the USPTO Internet Web site (address: http://www.uspto.gov). Because comments will be made available for public inspection, information that is not desired to be made public, such as an address or phone number, should not be included.

FOR FURTHER INFORMATION CONTACT: Candice Goodman, United States Patent and Trademark Office, by telephone at 571-272-6452.

SUPPLEMENTARY INFORMATION: GPRA requires Federal agencies to establish a strategic plan covering not less than a five-year period, and to solicit the views and suggestions of those entities potentially affected by or interested in the plan. This notice is to alert USPTO's stakeholders and the public as to how they can provide input on the USPTO's draft strategic plan.

The draft strategic plan for FY 2010-2015 is available on the USPTO's Web site at http://www.uspto.gov. The draft plan includes the USPTO's mission statement, vision statement and a description of the strategic goals, objectives and significant actions that the USPTO plans to take in order to accomplish its mission and achieve its vision. Full details on how the USPTO plans to implement the strategic plan, including funding and performance metrics, will be included in the USPTO's FY 2012 President's Budget.

The USPTO would like to receive input from a wide range of organizations (both national and international), public bodies, and other stakeholders. We especially encourage the views and suggestions of individuals and entities holding or dealing with intellectual property, and USPTO employees.

The USPTO anticipates posting the final strategic plan for FY 2010-2015 on our Web site by the end of FY 2010.

Date: July 1, 2010.
David J. Kappos,
Under Secretary of Commerce for Intellectual Property and Director of the United States Patent and Trademark Office.

[FR Doc. 2010-16597 Filed 7-8-10; 8:45 am]

BILLING CODE 3510-16-P